DEPARTMENT OF DEFENSE

Office of the Secretary

Defense Advisory Committee on Women in the Services; Notice of Federal Advisory Committee Meeting

AGENCY: Thursday, May 31, 2018Under Secretary of Defense for Personnel and Readiness, Department of Defense.

ACTION: Notice of Federal Advisory Committee meeting.

SUMMARY: The Department of Defense (DoD) is publishing this notice to announce that the following Federal Advisory Committee meeting of the Defense Advisory Committee on Women in the Services (DACOWITS) will take place.

DATES: Day 1—Open to the public Tuesday, June 19, 2018 from 8:30 a.m. to 11:45 a.m. Day 2—Open to the public Wednesday, June 20, 2018 from 8:30 a.m. to 11:45 a.m.

ADDRESSES: The address of the open meeting is the Sheraton Pentagon City, 900 S Orme St., Arlington, VA 22204.

FOR FURTHER INFORMATION CONTACT: Colonel Toya Davis (703) 697-2122 (Voice), 703-614-6233 (Facsimile), osd.pentagon.ousd-p-r.mbx.dacowits@mail.mil (Email). Mailing address is 4800 Mark Center Drive, Suite 04J25-01, Alexandria, VA 22350. Website: http://dacowits.defense.gov. The most up-to-date changes to the meeting agenda can be found on the website.

SUPPLEMENTARY INFORMATION: This meeting is being held under the provisions of the Federal Advisory Committee Act (FACA) (5 U.S.C., Appendix), the Government in the Sunshine Act of 1976 (5 U.S.C. 552b, as amended), and 41 CFR 102-3.140 and 102-3.150.

Purpose of the Meeting: The purpose of the meeting is for the DACOWITS to receive briefings and updates relating to their current work. The meeting will open with the Designated Federal Officer (DFO) giving a status update on the DACOWITS' requests for information. This will be followed with a briefing from the military Services and DACOWITS' discussion on personal protective equipment/gear for women. There will then be a public comment period. Day one will end with an awards ceremony for departing DACOWITS members. The second day of the meeting will open with a briefing from Office of the Secretary of Defense Public Affairs on the “This is Your Military” DoD initiative. This will be followed by an overview briefing by representative of the National Guard and DACOWITS discussion on the National Guard. Lastly the DACOWITS will receive an update briefing from the Office of Under Secretary of Defense (Personnel and Readiness), Office of the Diversity Management and Equal Opportunity, on Gender Discrimination and Sexual Harassment and DACOWITS discussion.

Agenda: Tuesday, June 19, 2018, from 8:30 a.m. to 11:45 a.m.—Welcome, Introductions, and Announcements; Request for Information Status Update; Briefings and DACOWITS discussion on: Personal Protective Equipment/Gear for Women; Public Comment Period; Awards Ceremony. Wednesday, June 20, 2018, from 8:30 a.m. to 11:45 a.m.—Welcome and Announcements; Briefing and DACOWITS discussion on: “This is Your Military” DoD Initiative; National Guard Overview; and Gender Discrimination and Sexual Harassment Update.

Meeting Accessibility: Pursuant to 5 U.S.C. 552b, as amended, and 41 CFR 102-3.140 through 102-3.165, this meeting is open to the public, subject to the availability of space.

Written Statements: Pursuant to 41 CFR 102-3.140, and section 10(a)(3) of the FACA, interested persons may submit a written statement to the DACOWITS. Individuals submitting a written statement must submit their statement to Mr. Robert Bowling (703) 697-2122 (Voice), 703-614-6233 (Facsimile), robert.d.bowling1.civ@mail.mil (Email). Mailing address is 4800 Mark Center Drive, Suite 04J25-01, Alexandria, VA 22350 no later than 5:00 p.m., Thursday June 14, 2018. If a written statement is not received by Thursday, June 14, 2018, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine if the requesting persons is permitted to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Tuesday, June 19, 2018 from 10:00 a.m. to 10:30 a.m. in front of the full Committee. The number of oral presentations to be made will depend on the number of requests received from members of the public.

Dated: May 29, 2018.
Aaron T. Siegel,
Alternate OSD Federal Register Liaison Officer, Department of Defense.

[FR Doc. 2018-11808 Filed 5-31-18; 8:45 am]

BILLING CODE 5001-06-P